FEDERAL ELECTION COMMISSION

Sunshine Act Meeting

AGENCY: Federal Election Commission.

PREVIOUSLY ANNOUNCED DATE AND TIME: Thursday, February 3, 2000, 10:00 a.m., Meeting open to the public.

The following items were added to the agenda:

1996 Democratic National Convention Committee, Inc.—Administrative Review of Repayment Determination, Proposed Statement of Reasons (LRA#471).

1996 Republican National Convention Committee on Arrangements—Administrative Review of Repayment Determination, Proposed Statement of Reasons (LRA#472).

Express Advocacy Rule (11 CFR 100.22).

DATE AND TIME: Tuesday, February 8, 2000 at 10:00 a.m.

PLACE: 999 E Street, N.W., Washington, D.C.

STATUS: This Meeting Will Be Closed to the Public.

ITEMS TO BE DISCUSSED: Compliance matters pursuant to 2 U.S.C. § 437g.

Audits conducted pursuant to 2 U.S.C. § 437g, § 438(b), and Title 26, U.S.C.

Matters concerning participation in civil actions or proceedings or arbitration.

Internal personnel rules and procedures or matters affecting a particular employee.

DATE AND TIME: Wednesday, February 9, 2000, at 10:00 a.m.

PLACE: 999 E Street, N.W., Washington, D.C. (Ninth Floor).

STATUS: This Meeting Will Be Open to the Public.

ITEMS TO BE DISCUSSED: Correction and Approval of Minutes.

Advisory Opinion 1999-37: X-PAC, The Political Action Committee for Generation X, Michael J. Panetta, Executive Director.

Administrative Matters.

PERSON TO CONTACT FOR INFORMATION: Mr. Ron Harris, Press Officer, Telephone: (202) 694-1220.

Mary W. Dove,
Acting Secretary of the Commission.

[FR Doc. 00-2435 Filed 1-31-00; 3:00 pm]

BILLING CODE 6715-01-M